DEPARTMENT OF TRANSPORTATION

National Highway Traffic Safety Administration

[Docket No. NHTSA-2002-12937]

Notice of Tentative Decision That Certain Nonconforming Vehicles Are Eligible for Importation

AGENCY: National Highway Traffic Safety Administration, DOT.

ACTION: Request for comments on tentative decision that certain nonconforming vehicles are eligible for importation.

SUMMARY: This notice requests comments on a tentative decision by the National Highway Traffic Safety Administration (NHTSA) that certain vehicles that do not comply with all applicable Federal motor vehicle safety standards, but that are certified by their original manufacturer as complying with all applicable Canadian motor vehicle safety standards, are eligible for importation into the United States. The vehicles in question either (1) are substantially similar to vehicles that were certified by their manufacturers as complying with the U.S. safety standards and are capable of being readily altered to conform to those standards, or (2) have safety features that comply with, or are capable of being altered to comply with, all U.S. safety standards.

DATE: The closing date for comments on this tentative decision is September 5, 2002.

ADDDRESS: Comments should refer to the docket number and notice number, and be submitted to: Docket Management, Room PL-401, 400 Seventh St., SW., Washington, DC 20590. [Docket hours are from 9 am to 5 pm].

FOR FURTHER INFORMATION CONTACT: Luke Loy, Office of Vehicle Safety Compliance, NHTSA (202-366-5308).

SUPPLEMENTARY INFORMATION:

Background

Under 49 U.S.C. 30141(a)(1)(A), a motor vehicle that was not originally manufactured to conform to all applicable Federal motor vehicle safety standards (FMVSS) shall be refused admission into the United States unless NHTSA has decided, either pursuant to a petition from the manufacturer or registered importer or on its own initiative, that the motor vehicle (1) is substantially similar to a motor vehicle of the same model year that was originally manufactured for importation into and sale in the United States and certified by its manufacturer as complying with all applicable FMVSS, and (2) is capable of being readily altered to conform to all applicable FMVSS. Where there is no substantially similar U.S.-certified motor vehicle, 49 U.S.C. 30141(a)(1)(B) permits a nonconforming motor vehicle to be admitted into the United States if its safety features comply with, or are capable of being altered to comply with, all applicable FMVSS based on destructive test data or such other evidence as NHTSA decides to be adequate.

Most Recent Decision

On May 13, 1997, NHTSA published a notice in the Federal Register at 62 FR 26348 announcing that it had made a decision on its own initiative that certain motor vehicles that do not comply with all applicable FMVSS, but that are certified by their original manufacturer as complying with all applicable Canadian motor vehicle safety standards (CMVSS), are eligible for importation into the United States. The notice identified these vehicles as:

(a) All passenger cars manufactured on or after September 1, 1996 and before September 1, 2002, that, as originally manufactured, are equipped with an automatic restraint system that complies with Federal Motor Vehicle Safety Standard (FMVSS) No. 208, and that comply with FMVSS No. 214;

(b) All multipurpose passenger vehicles, trucks and buses manufactured on or after September 1, 1993, and before September 1, 1998, that, as originally manufactured, comply with FMVSS Nos. 202, 208, and 216; and

(c) All multipurpose passenger vehicles, trucks and buses manufactured on or after September 1, 1998, and before September 1, 2002, that, as originally manufactured, comply with FMVSS Nos. 202, 208, 214, and 216.

Existing Cut-Off Date

In the notice of tentative decision that preceded this final decision, published on March 7, 1997 at 62 FR 10614, NHTSA announced its intention to limit all previously open-ended import eligibility decisions for Canadian-certified passenger cars, multipurpose passenger vehicles (MPVs), trucks, and buses to such vehicles manufactured before September 1, 2002. The agency explained that it had selected that date because it is the one “on which revised interior impact protection requirements that are to be phased in under FMVSS No. 201, Occupant Protection in Interior Impact, and that are not found in the corresponding CMVSS, will become effective for all passenger cars and for MPVs, trucks, and buses with a GVWR of 10,000 pounds or less.” See 62 FR 10616. The agency stated its intention “to issue new decisions covering vehicles manufactured on or after September 1, 2002 within a sufficient period before that date is reached.” Id.

Outstanding Compliance Issues

In addressing one of the comments submitted on the notice of tentative decision, the agency stated in the notice of final decision that if Canada should “adopt the revised interior impact protection requirements that are to be phased in under FMVSS No. 201 by September 1, 2002, there will be no need for compliance with this standard to be made a specific condition for import eligibility.” See 62 FR 26350. The FMVSS No. 201 requirements that were the subject of the phase-in were for upper interior occupant protection. Canada has not adopted these requirements. Since complex modifications may be required to bring a vehicle into conformity with the FMVSS No. 201 upper interior impact requirements, NHTSA is reluctant to make a blanket import eligibility decision for Canadian-certified vehicles that do not meet these requirements. The capability of any particular make and model vehicle to be conformed to the upper interior impact requirements should be assessed by the agency on a case-by-case basis, through its consideration of individual import eligibility petitions.

Another standard that will become effective for all U.S.-certified passenger cars on September 1, 2002 is FMVSS No. 401, Interior Trunk Release. Canada has not adopted a similar standard. Because complex modifications may also be required in some vehicles to achieve conformity with the requirements of this standard, particularly if the trunk compartment is situated in the front of the vehicle, NHTSA is also reluctant to make a blanket import eligibility decision for Canadian-certified vehicles that do not meet these requirements.

Lastly, there are requirements for the lower anchorages of child restraint anchorage systems under FMVSS No. 225, Child Restraint Anchorage Systems, which have not been adopted by Canada. In light of these differences, NHTSA is reluctant to make a blanket import eligibility decision for Canadian-certified vehicles that do not meet these requirements. FMVSS No. 225 applies to passenger cars, to trucks and MPVs with a GVWR of 3,855 kg (8,500 lb) or less, except walk-in van-type vehicles and vehicles manufactured to be sold exclusively to the U.S. Postal Service, and to buses (including school buses) with a GVWR of 4,536 kg (10,000 lb) or less, except shuttle buses.

As a consequence, the agency has tentatively decided to require, as a condition for import eligibility, that Canadian-certified passenger cars manufactured on or after September 1, 2002 comply, as originally manufactured, with FMVSS Nos. 201, 225, and 401. In addition, we have tentatively decided to require, as a condition for import eligibility, that Canadian-certified MPVs, trucks, and buses with a gross vehicle weight rating (GVWR) of 10,000 pounds or less manufactured on or after September 1, 2002 comply, as originally manufactured, with FMVSS No. 201 and, insofar as it is applicable, with FMVSS No. 225.

Future Cut-off Date

To avoid the need to amend any existing eligibility decisions in the event that there are any further requirements imposed under the FMVSS that are not carried into the corresponding CMVSS, NHTSA has tentatively decided to limit its import eligibility decisions for Canadian-certified passenger cars and for MPVs, trucks, and buses with a GVWR of 10,000 pounds or less to such vehicles manufactured before September 1, 2007. Prior to that date, the agency will assess whether there is a need to condition the import eligibility of any subsequently manufactured Canadian-certified vehicles on compliance with any additional FMVSS. The agency intends to issue new decisions covering vehicles manufactured on or after September 1, 2007 within a sufficient period before that date is reached.

Tentative Decisions

Pending its review of any comments submitted in response to this notice, NHTSA hereby tentatively decides that:

(a) All passenger cars manufactured on or after September 1, 2002 and before September 1, 2007, that, as originally manufactured, are equipped with an automatic restraint system that complies with Federal Motor Vehicle Safety Standard (FMVSS) No. 208, and that comply with FMVSS No. 201, 214, 225, and 401; and

(b) All multipurpose passenger vehicles, trucks and buses with a GVWR of 4,535 kg (10,000 lb) or less that were manufactured on or after September 1, 2002, and before September 1, 2007, and that, as originally manufactured, comply with FMVSS Nos. 201, 202, 208, 214, and 216, and, insofar as it is applicable, with FMVSS No. 225;

that are certified by their original manufacturer as complying with all applicable Canadian motor vehicle safety standards, are eligible for importation into the United States on the basis that either:

1. They are substantially similar to vehicles of the same make, model, and model year originally manufactured for importation into and sale in the United States, or originally manufactured in the United States for sale therein, and certified as complying with all applicable FMVSS, and are capable of being readily altered to conform to all applicable FMVSS, or

2. They have safety features that comply with, or are capable of being altered to comply with, all applicable FMVSS.

Vehicle Eligibility Number

The importer of a vehicle admissible under any final decision must indicate on the form HS-7 accompanying entry the appropriate vehicle eligibility number indicating that the vehicle is eligible for entry. Vehicle eligibility number VSA-80 is currently assigned to Canadian-certified passenger cars and vehicle eligibility number VSA-81 is currently assigned to Canadian-certified MPVs, trucks, and buses with a GVWR of 4,536 kg (10,000 lb) or less. If this tentative decision is made final, all passenger cars admissible under that decision will be assigned vehicle eligibility number VSA-80, and all MPVs, trucks, and buses admissible under that decision will be assigned vehicle eligibility number VSA-81.

Comments

Section 30141(b) of Title 49, U.S. Code requires NHTSA to provide a minimum period for public notice and comment on decisions made on its own initiative consistent with ensuring expeditious, but full consideration and avoiding delay by any person. NHTSA believes that a comment period of 30 days is appropriate for this purpose. Interested persons are invited to submit comments on the tentative decision described above. Comments should refer to the docket number and be submitted to: Docket Management, Room PL-401, 400 Seventh St., SW, Washington, DC 20590. [Docket hours are from 9 am to 5 pm]. It is requested, but not required, that 10 copies be submitted. Alternatively, you may submit your comments electronically by logging onto the Docket Management System (DMS) website at http://dms.dot.gov. Click on “Help & Information” of “Help/Info” to view instructions for filing your comments electronically.

All comments received before the close of business on the closing date indicated above will be considered, and will be available for examination in the docket at the above address both before and after that date. To the extent possible, comments filed after the closing date will also be considered. Notice of NHTSA's final decision will be published in the Federal Register pursuant to the authority indicated below.

Authority: 49 U.S.C. 30141(a)(1)(A), (a)(1)(B), and (b)(1); 49 CFR 593.8; delegation of authority at 49 CFR 1.50.

Issued on: August 1, 2002.
Jeffrey W. Runge,
Administrator.

[FR Doc. 02-19842 Filed 8-5-02; 8:45 am]

BILLING CODE 4910-59-P